DEPARTMENT OF COMMERCE

National Oceanic and Atmospheric Administration

Hydrographic Services Review Panel Meeting

AGENCY: National Ocean Service, National Oceanic and Atmospheric Administration (NOAA), Department of Commerce.

ACTION: Notice of public meeting (via conference call).

SUMMARY: The Hydrographic Services Review Panel (HSRP) was established by the Secretary of Commerce to advise the Under Secretary of Commerce for Oceans and Atmosphere on matters related to the responsibilities and authorities set forth in section 303 of the Hydrographic Services Improvement Act of 1998, its amendments, and such other appropriate matters that the Under Secretary refers to the Panel for review and advice. The purpose of the conference call is to allow Panel members to vote on final recommendations initiated during a public meeting in Durham, New Hampshire, on August 18-19, 2005. Written public comments should be submitted to the DFO by September 26, 2005.

Date and Time: The conference call will convene at 2 p.m. eastern time, September 28, 2005, and end at about 3:30 p.m.

FOR FURTHER INFORMATION CONTACT: Captain Roger L. Parsons, NOAA, Designated Federal Officer (DFO), Office of Coast Survey, National Ocean Service, NOAA (N/CS), 1315 East West Highway, Silver Spring, Maryland 20910; Telephone: 301-713-2770, Fax: 301-713-4019; e-mail: Hydroservices.panel@noaa.gov or visit the NOAA HSRP Web site at http://nauticalcharts.noaa.gov/ocs/hsrp/hsrp.htm.

SUPPLEMENTARY INFORMATION: This conference call is available to the public through the following, toll free call-in number: (888) 323-2712, participant passcode 9738110. Interested members of the public may call this number and listen to the meeting. Persons with hearing impairments may follow the proceedings by calling the Federal Relay Service [TTY (800) 877-8339, Voice (866) 377-8642 or Voice Carry-Over (877) 877-6280] and provide the Service with the conference call number and participant passcode. Be sure to notify the operator that it is a “Conference Call” before you provide call number and participant passcode. To ensure an appropriate number of phone lines for the public, persons are asked to register by visiting https://www.mymeetings.com (choose “web rsvp” and enter Conference ID 4907175, Conference Passcode 9738110) by September 23, 2005.

Matters To Be Considered: A quorum vote is required for recommendations related to NOAA Hydrographic Services Role in the Integrated Ocean Observing System (IOOS), The National Ocean Service Mapping and Charting Contracting Policy and Expansion Strategy and NOAA's Core Capability. The recommendations will be posted before the conference call; please visit http://nauticalcharts.noaa.gov/ocs/hsrp/hsrp.htm.

Dated: September 8, 2005.
Mitchell Luxenberg,
Acting Chief Financial Officer, Ocean Services and Coastal Zone Management, National Oceanic and Atmospheric Administration.

[FR Doc. 05-17891 Filed 9-8-05; 8:45 am]

BILLING CODE 3510-JE-P